DEPARTMENT OF COMMERCE

National Oceanic and Atmospheric Administration

RIN 0648-XB53

Endangered and Threatened Species; Take of Anadromous Fish

AGENCY: National Marine Fisheries Service (NMFS), National Oceanic and Atmospheric Administration (NOAA), Commerce.

ACTION: Receipt of an application for a scientific research permit; request for comments.

SUMMARY: Notice is hereby given that NMFS has received an application for a scientific research permit from California Department of Parks and Recreation (CDPR) in Half Moon Bay, CA (10017). This document serves to notify the public of the availability of the permit application for review and comment.

DATES: Written comments on the permit application must be received no later than 5 p.m. Pacific Standard Time on August 22, 2007.

ADDRESSES: Comments submitted by e-mail must be sent to the following address: FRNpermits.SR@noaa.gov. The application and related documents are available for review by appointment, for Permit 10017: Protected Resources Division, NMFS, 777 Sonoma Avenue, Room 315, Santa Rosa, CA 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Central California Coast coho salmon (Oncorhynchus kisutch) and threatened Central California Coast steelhead (O. mykiss).

Application Received

CDPR requests a 5-year permit (10017) for take of adult and juvenile Central California Coast coho salmon and Central California Coast steelhead to assess salmonid population distribution, abundance, and habitat in San Gregorio Creek, Pomponio Creek, and Pescadero Creek watersheds in San Mateo County, California. The research particularly seeks to identify the cause of annual fish die-off events in Pescadero Lagoon and recommend habitat restoration actions to prevent future fish die-off events from occurring. CDPR requests authorization for an estimated annual non-lethal take of 12 adult Central California Coast coho salmon and 75 adult Central California Coast steelhead, with no more than a single (1) individual adult Central California Coast steelhead unintentional mortality to result from capture (by seine, weir-trap, or dip-net), anesthetizing, handling, fin-clipping, scale-sampling, passive integrated transponder (PIT)-tagging, visible implant elastomer (VIE)-tagging, and release of fish. CDPR requests authorization for an estimated annual non-lethal take of 40 juvenile Central California Coast coho salmon, with no more than 5 percent unintentional mortality to result from capture (by seine, fyke-net trap, electrofishing, or dip-net), handling, and release of fish; and an estimated annual non-lethal take of 1,520 juvenile Central California Coast steelhead, with no more than 7 percent unintentional mortality to result from capture (by seine, fyke-net trap, electrofishing, or dip-net), anesthetizing, handling, fin-clipping, scale-sampling, PIT-tagging, VIE-tagging, and release of fish. In the event of any future fish die-off events in Pescadero Lagoon, CDPR also requests authorization for an estimated annual take of 5 juvenile Central California Coast steelhead carcasses (previously dead individuals) and an estimated annual lethal-take of 5 sick or injured juvenile Central California Coast steelhead to be lethally sacrificed for pathology analysis.

Dated: July 13, 2007.
Ann Garrett,
Acting Chief, Endangered Species Division, Office of Protected Resources, National Marine Fisheries Service.

[FR Doc. E7-14116 Filed 7-20-07; 8:45 am]

BILLING CODE 3510-22-S